DEPARTMENT OF HOMELAND SECURITY

Coast Guard

[Docket No. USCG-2011-0187]

Notice of Entry Into Effect of MARPOL Annex V Wider Caribbean Region Special Area

AGENCY: Coast Guard, DHS.

ACTION: Notice.

SUMMARY: The Coast Guard announces the date for the entry into effect of discharge requirements from ships in the Wider Caribbean Region (WCR) special area (SA) as specified in the International Convention for the Prevention of Pollution from Ships (MARPOL) Annex V, Regulation 5 and Coast Guard regulations. MARPOL Annex V and the U.S. regulations apply to vessel and reception facility activities in the WCR region.

DATES: IMO Resolution MEPC.191(60) established the date of entry for discharge requirements in the WCR SA as May 1, 2011.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2011-0187 in the “Keyword” box, and then clicking “Search.”

FOR FURTHER INFORMATION CONTACT: If you have questions about this notice, call or e-mail Mr. David Condino, MARPOL Certificate of Adequacy Project Manager, telephone: 202-372-1145, e-mail: david.a.condino@uscg.mil; or LCDR Kevin P. Lynn, Chief, Facility Safety Branch, Commandant, CG-5442, telephone: 202-372-1130, e-mail: kevin.p.lynn@uscg.mil. If you have questions on viewing material in the docket, call Renee V. Wright, Program Manager, Docket Operations, telephone: 202-366-9826.

SUPPLEMENTARY INFORMATION:

Background and Purpose

Under Coast Guard regulation 33 CFR 151.53(b), the Coast Guard announces the May 1, 2011 date for entry into effect of discharge requirements from ships in the WCR SA. The WCR is defined in 33 CFR 151.06(a)(12). As of May 1, 2011, the discharge restrictions for SAs set forth in 33 CFR 151.71 will be applicable to the WCR SA.

In accordance with the provisions of regulation 5(4)(b) found in MARPOL Annex V, the United States, along with a sufficient number of WCR States that are parties to MARPOL, submitted notices on the availability of adequate reception facilities in the region to the International Maritime Organization's (IMO) Marine Environment Protection Committee (MEPC) at a meeting of the MEPC in March, 2010. During the meeting the WCR States requested that the MEPC establish a date for the entry into effect of the WCR SA. The MEPC noted the information provided by Member States in the WCR SA, to include the United States, and decided that the requirements for sufficient notification of adequate reception facilities for the WCR SA had been met. The MEPC adopted resolution MEPC.191(60) and the IMO Secretariat transmitted the text of the resolution to all interested parties via Circular Letter No.3053 dated April 14, 2010. These documents are available on the IMO's Web site at http://www.imo.org.

As a party to MARPOL Annex V, the United States proposed to the IMO's MEPC to establish the Gulf of Mexico as an SA under MARPOL Annex V in September 1990. The country of Venezuela submitted an amendment to the proposal to include the WCR along with the Gulf of Mexico as an SA under MARPOL Annex V in November 1990. The MEPC adopted the proposal to establish the WCR SA, including the Gulf of Mexico and the Caribbean Sea, in July 1991. The SA entered into force in April 1993, and MARPOL Annex V discharge requirements for the SA will enter into effect May 1, 2011. When the discharge requirements in regulation 5 of MARPOL Annex V enter into effect for the WCR SA, the discharge restrictions in 33 CFR 151.71 will also enter into effect. These regulations state that no person may discharge garbage from a ship except food wastes. The disposal of food wastes into the sea shall be made as far as practicable from land, but in any case not less than 12 nautical miles from the nearest land. Food wastes comminuted or ground and capable of passing through a screen with openings no greater than 25 mm may be discharged not less than 3 nautical miles from the nearest land.

The Coast Guard intends to update the list of SAs, in accordance with 33 CFR 151.53(b), to include where discharge restrictions are effective in a separate rule change.

Dated: March 18, 2011.
Kevin S. Cook,
Rear Admiral, U.S. Coast Guard, Director of Prevention Policy.

[FR Doc. 2011-8244 Filed 4-6-11; 8:45 am]

BILLING CODE 9110-04-P